DEPARTMENT OF EDUCATION

[Docket No. ED-2013-ICCD-0090]

Agency Information Collection Activities; Comment Request; Implementation of Title I/II Program Initiatives

AGENCY: Institute of Educational Sciences (IES), Department of Education (ED).

ACTION: Notice.

SUMMARY: In accordance with the Paperwork Reduction Act of 1995 (44 U.S.C. chapter 3501 et seq.), ED is: a new information collection.

DATES: Interested persons are invited to submit comments on or before September 9, 2013.

ADDRESSES: Comments submitted in response to this notice should be submitted electronically through the Federal eRulemaking Portal at http://www.regulations.gov by selecting Docket ID number ED-2013-ICCD-0090 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Implementation of Title I/II Program Initiatives.

OMB Control Number: 1850-New.

Type of Review: A new information collection.

Respondents/Affected Public: State, Local or Tribal Governments.

Total Estimated Number of Annual Responses: 12,231.

Total Estimated Number of Annual Burden Hours: 6,573.

Abstract:

The Implementation of Title I/II Program Initiatives study will examine the implementation of policies promoted through the Elementary and Secondary Education Act (ESEA) at the state, district and school levels, in four core areas: state content standards, aligned assessments, accountability and school turnaround, and development of effective teachers and leaders.

The purpose of this new data collection is to provide policy makers with detailed information on the progress being made on the core policies promoted by Title I and Title II, and the recent granting of ESEA Flexibility to states. Although other research studies cover similar topics on recent federal education policy, the breadth of research questions and the depth of responses from all SEAs and three levels of nationally representative samples, sets the Title I/II study apart from other studies.

This study will rely on information collected from existing sources, for which there are no respondents or burden and on a new set of surveys in order to address the study's research questions. Extant data sources include (a) The National Assessment of Educational Progress (NAEP); (b) EDFacts data; (c) information about teacher preparation and certification programs and policies; and (d) state documents.

The new surveys of states and districts will begin in November 2013 and the surveys of schools (principals) and teachers will begin in January 2014. All respondents will have the opportunity to complete an electronic (email or web-based) survey (or paper survey, if preferred).

Dated: July 3, 2013.
Stephanie Valentine,
Acting Director, Information Collection Clearance Division, Privacy, Information and Records Management Services, Office of Management.

[FR Doc. 2013-16527 Filed 7-10-13; 8:45 am]

BILLING CODE 4000-01-P